FEDERAL COMMUNICATIONS COMMISSION

47 CFR Part 73

[DA 04-1650; MM Docket No. 02-290; RM-10527, RM-10772, RM-10773]

Radio Broadcasting Services; Franklin, ID and Richfield, UT

AGENCY: Federal Communications Commission.

ACTION: Final rule, correction.

SUMMARY: The Federal Communications Commission published in the Federal Register, of June 25, 2004, a document which granted multiple channels substitutions and changes of community of license in Utah, Colorado, Idaho and Wyoming. The amendatory language requested removal of channels not currently listed in Section 73.202(b), FM Table of Allotments for Franklin, Idaho and Richfield, Utah. This document corrects the amendatory language under Idaho by removing Channel 249A at Franklin in lieu of Channel 248C1. Additionally, the published document substituted Channel 249C for Channel 248C at Richfield, Utah, reallotted Channel 249C to Elsinore, Utah, and modified the license of Station KLGL to specify operation on Channel 249C at Elsinore. In this case, the FM Table of Allotments lists Channel 248 for Richfield, Utah not Channel 248C, therefore this document corrects the amendatory language under Utah by removing Channel 248 at Richfield instead of Channel 248C.

DATES: Effective July 26, 2004.

FOR FURTHER INFORMATION CONTACT: Robert Hayne, Media Bureau, (202) 418-2177.

SUPPLEMENTARY INFORMATION: The FCC published a document in the Federal Register of June 25, 2004, (69 FR 35531) granting multiple channels substitutions and changes of community of license in Utah, Colorado, Idaho and Wyoming. In FR Doc. 04-14483, published in the Federal Register of June 25, 2004, (69 FR 35531), the amendatory language inadvertently listed the removal of channels not currently reflected in the FM Table of Allotments for Franklin, Idaho and Richfield, Utah. This document corrects the amendatory language to reflect the removal of channels currently listed in the FM Table of Allotments for Franklin, Idaho and Richfield, Utah.

In rule FR Doc. 04-14483 published on June 25, 2004, (69 FR 35531) make the following corrections:

§ 73.202 [Amended]

1. On page 35532, in the first column, paragraph number 3, § 73.202(b), the Table of FM Allotments under Idaho, is amended by removing Channel 249A at Franklin.

2. On page 35532, in the first column, paragraph number 4, § 73.202(b), the Table of FM Allotments under Utah, is amended by removing Channel 248 at Richfield.

Dated: July 8, 2004.
John A. Karousos,
Assistant Chief, Audio Division, Media Bureau.

[FR Doc. 04-15987 Filed 7-14-04; 8:45 am]

BILLING CODE 6712-01-P